DEPARTMENT OF ENERGY

Federal Energy Regulatory Commission

[Project No. 1957-020]

Notice of Application for Amendment of License and Soliciting Comments, Motions To Intervene, and Protests

February 21, 2003.

a. Type of Filing: Amendment of license to decrease project installed capacity from 700 kW to 450 kW by deleting Unit #3.

b. Project No: 1957-020.

c. Date Filed: January 17, 2003.

d. Applicant: Wisconsin Public Service Corporation.

e. Name of Project: Otter Rapids Project.

f. Location: The project is located on the Wisconsin River in Vilas and Oneida Counties, Wisconsin.

g. Filed Pursuant to: Federal Power Act 16 U.S.C. 791(a)-825(r), Section 4.201 of the Commission's regulations.

h. Applicant Contact: Wisconsin Public Service Corporation, 700 No. Adams St., PO Box 19002, Green Bay, WI 54307-9002.

i. FERC Contact: William Guey-Lee, (202) 502-6064, or william.gueylee@ferc.gov.

j. Deadline for filing comments, motions to intervene or protests: March 21, 2003.

The Commission's rules of practice and procedure require all intervenors filing documents with the Commission to serve a copy of that document on each person whose name appears on the official service list for the project. Further, if an intervenor files comments or documents with the Commission relating to the merits of an issue that may affect the responsibilities of a particular resource agency, they must also serve a copy of the document on that resource agency.

k. Description of Project: The applicant requests that the license for the Otter Rapids Project No. 1957 be amended to delete the 250-kW Unit #3 from the license and decrease the licensed install capacity from 700 kW to 450 kW. Unit #3 is not operational and is in need of numerous repairs. The licensee states that repairing Unit #3 is not economically justified.

l. Location of the Filing: A copy of the filing is available for inspection and reproduction at the Commission's Public Reference Room, located at 888 First Street, NE., Room 2A, Washington, DC 20426, or by calling (202) 502-8371 and may also be viewed on the Commission's Web site at http://www.ferc.gov , using the “FERRIS” link. Enter the project number excluding the last three digits in the project number field to access the document. For assistance, please contact FERC Online Support at FERCOnlineSupport@ferc.gov or toll-free at (866) 208-3676, or for TTY, contact (202) 502-8659. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. Any of the above-named documents must be filed by providing an original and eight copies to: The Secretary, Federal Energy Regulatory Commission, 888 First Street, NE., Washington, DC 20426. A copy of any motion to intervene must also be served upon each representative of the Applicant specified in the particular application.

Comments, protests and interventions may be filed electronically via the Internet in lieu of paper. See 18 CFR 385.2001(a)(1)(iii) and the instructions on the Commission's Web site under the “e-Filing” link.

Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-4711 Filed 2-26-03; 8:45 am]

BILLING CODE 6717-01-P